DEPARTMENT OF ENERGY

Federal Energy Regulatory Commission

Combined Notice of Filings #1

Take notice that the Commission received the following electric corporate filings:

Docket Numbers: EC21-118-000.

Applicants: Twin Eagle Resource Management, LLC.

Description: Application for Authorization Under Section 203 of the Federal Power Act of Twin Eagle Resource Management, LLC.

Filed Date: 8/20/21.

Accession Number: 20210820-5057.

Comment Date: 5 pm ET 9/10/21.

Take notice that the Commission received the following electric rate filings:

Docket Numbers: ER10-3125-015.

Applicants: AL Sandersville, LLC.

Description: Notice of Non-Material Change in Status of AL Sandersville, LLC.

Filed Date: 8/20/21.

Accession Number: 20210820-5155.

Comment Date: 5 pm ET 9/10/21.

Docket Numbers: ER20-1837-004.

Applicants: Duke Energy Carolinas, LLC, Duke Energy Florida, LLC, Duke Energy Progress, LLC.

Description: Compliance filing: Duke Energy Florida, LLC submits tariff filing per 35: Third Amendment to Joint OATT Order 864 Compliance Filing to be effective 1/27/2020.

Filed Date: 8/20/21.

Accession Number: 20210820-5140.

Comment Date: 5 pm ET 9/10/21.

Docket Numbers: ER20-2108-005.

Applicants: Great Bay Solar II, LLC.

Description: Great Bay Solar II, LLC submits tariff filing per 35.19a(b): Reactive Refund Report to be effective N/A.

Filed Date: 8/18/21.

Accession Number: 20210818-5172.

Comment Date: 5 pm ET 9/8/21.

Docket Numbers: ER20-2926-001.

Applicants: Altamont Winds LLC.

Description: Notice of Non-Material Change in Status of Altamont Winds LLC.

Filed Date: 8/20/21.

Accession Number: 20210820-5169.

Comment Date: 5 pm ET 9/10/21.

Docket Numbers: ER21-1191-008; ER21-1191-002; ER21-1191-003; ER21-1191-004; ER21-1191-005; ER21-1191-007.

Applicants: Southwestern Electric Power Company.

Description: Answer of Southwestern Electric Power Company.

Filed Date: 8/19/21.

Accession Number: 20210819-5151.

Comment Date: 5 pm ET 9/9/21.

Docket Numbers: ER21-2305-002.

Applicants: Pacific Gas and Electric Company.

Description: Compliance filing: Compliance Filing: TO20 Motion for Interim Rates—Standby Cost Allocation to be effective 8/1/2021.

Filed Date: 8/20/21.

Accession Number: 20210820-5102.

Comment Date: 5 pm ET 9/10/21.

Docket Numbers: ER21-2718-000.

Applicants: California Independent System Operator Corporation, Pacific Gas and Electric Company, Southern California Edison Company.

Description: Petition for Approval of Uncontested Settlement Agreement of California Independent System Operator Corporation, et al.

Filed Date: 8/13/21.

Accession Number: 20210813-5244.

Comment Date: 5 pm ET 9/3/21.

Docket Numbers: ER21-2722-000.

Applicants: E. BarreCo Corp LLC.

Description: Baseline eTariff Filing: Baseline new to be effective 10/20/2021.

Filed Date: 8/20/21.

Accession Number: 20210820-5007.

Comment Date: 5 pm ET 9/10/21.

Docket Numbers: ER21-2723-000.

Applicants: Midcontinent Independent System Operator, Inc., American Transmission Company LLC.

Description: § 205(d) Rate Filing: Midcontinent Independent System Operator, Inc. submits tariff filing per 35.13(a)(2)(iii: 2021-08-20_SA 3691 ATC-WPL E&P (J1305) to be effective 8/18/2021.

Filed Date: 8/20/21.

Accession Number: 20210820-5053.

Comment Date: 5 pm ET 9/10/21.

Docket Numbers: ER21-2725-000.

Applicants: Midcontinent Independent System Operator, Inc.

Description: § 205(d) Rate Filing: 2021-08-20_SA 3370 ATC-Red Barn Energy 1st Rev GIA (J855) to be effective 8/6/2021.

Filed Date: 8/20/21.

Accession Number: 20210820-5106.

Comment Date: 5 pm ET 9/10/21.

Docket Numbers: ER21-2727-000.

Applicants: PacifiCorp.

Description: PacifiCorp submits Average System Cost Filing for Sales of Electric Power to the Bonneville Power Administration, FY 2022-2023.

Filed Date: 8/19/21.

Accession Number: 20210819-5211.

Comment Date: 5 pm ET 9/9/21.

Docket Numbers: ER21-2728-000.

Applicants: California Independent System Operator Corporation.

Description: § 205(d) Rate Filing: 2021-08-20 PLA No. 4 Time Ext—CDWR to be effective 11/1/2021.

Filed Date: 8/20/21.

Accession Number: 20210820-5120.

Comment Date: 5 pm ET 9/10/21.

Docket Numbers: ER21-2729-000.

Applicants: Black Hills Power, Inc.

Description: § 205(d) Rate Filing: Update to Schedule 2 of the Joint Open Access Transmission Tariff to be effective 10/19/2021.

Filed Date: 8/20/21.

Accession Number: 20210820-5130.

Comment Date: 5 pm ET 9/10/21.

Docket Numbers: ER21-2730-000.

Applicants: Unitil Energy Systems, Inc.

Description: § 205(d) Rate Filing: Interim Distribution Wheeling Agreement with Briar Hydro to be effective 8/23/2021.

Filed Date: 8/20/21.

Accession Number: 20210820-5132.

Comment Date: 5 pm ET 9/10/21.

Take notice that the Commission received the following electric securities filings:

Docket Numbers: ES21-65-000.

Applicants: Interstate Power and Light Company.

Description: Application Under Section 204 of the Federal Power Act for Authorization to Issue Securities of Interstate Power and Light Company.

Filed Date: 8/18/21.

Accession Number: 20210818-5170.

Comment Date: 5 pm ET 9/8/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 20, 2021.
Kimberly D. Bose,
Secretary.

[FR Doc. 2021-18376 Filed 8-25-21; 8:45 am]

BILLING CODE 6717-01-P